DEPARTMENT OF EDUCATION

[Docket ID ED-2024-FSA-0123]

Privacy Act of 1974; System of Records

AGENCY: Federal Student Aid, U.S. Department of Education.

ACTION: Notice of a New System of Records and Rescindment of Two Systems of Records Notices.

SUMMARY: In accordance with the Privacy Act of 1974, as amended (Privacy Act), the U.S. Department of Education (Department) publishes this notice of a new system of records titled the “Federal Student Aid Partner Connect” (18-11-24) (FSA Partner Connect) and of the rescindment of two systems of records notices titled “Postsecondary Education Participants System (PEPS)” (18-11-09) and “Student Aid internet Gateway (SAIG), Participation Management System” (18-11-10). The Department proposes this new system of records to integrate distinct legacy lines of business into a single web-based platform to simplify the user experience while leveraging modernized, more secure technology. The Department is rescinding the systems of records notices that covered the PEPS and the SAIG, Participation Management System because the records previously covered by those systems are now covered by the FSA Partner Connect system of records notice.

DATES: Submit your comments on this new system of records notice and rescindment of the two systems of records notices on or before August 14, 2025.

This new system of records will become applicable upon publication in the Federal Register on July 15, 2025, unless it needs to be changed as a result of public comment. The routine uses outlined in the section titled “ROUTINE USES OF RECORDS MAINTAINED IN THE SYSTEM, INCLUDING CATEGORIES OF USERS AND PURPOSES OF SUCH USES” will become applicable on the expiration of the 30-day period of public comment on August 14, 2025, unless they need to be changed as a result of public comment. The Department will publish any significant changes to the system of records or routine uses resulting from public comment.

This notice of the rescindment of the two systems of records notices generally will become applicable July 15, 2025, unless it needs to be changed as a result of public comment, except that the routine uses established in these two systems of records notices will not be rescinded until the date that the new routine uses established in the FSA Partner Connect system of records notice become applicable, as further described below. The Department will publish any changes to the notice of the rescindment of the two systems of records notices that result from public comment. The Department will continue to use the routine uses established under the section titled “ROUTINE USES OF RECORDS MAINTAINED IN THE SYSTEM, INCLUDING CATEGORIES OF USERS AND PURPOSES OF SUCH USES” of the systems of records notices that covered the PEPS and the SAIG, Participation Management System, until the routine uses established in the section titled “ROUTINE USES OF RECORDS MAINTAINED IN THE SYSTEM, INCLUDING CATEGORIES OF USERS AND PURPOSES OF SUCH USES” of the FSA Partner Connect system of records notice, become applicable on the expiration of the 30-day period of public comment unless they need to be changed as a result of public comment.

ADDRESSES: Comments must be submitted via the Federal eRulemaking Portal at regulations.gov. However, if you require an accommodation or cannot otherwise submit your comments via regulations.gov, please contact the program contact listed under FOR FURTHER INFORMATION CONTACT. The Department will not accept comments submitted by fax or by email, or comments submitted after the comment period closes. To ensure that the Department does not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “FAQ”.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this notice. If you want to schedule an appointment for this type of accommodation or aid, please contact the person listed under FOR FURTHER INFORMATION CONTACT.

FOR FURTHER INFORMATION CONTACT: Mr. Corey Johnson, Information System Owner, Digital Services Division of the Office of the Chief Technology Officer, Federal Student Aid, U.S. Department of Education, 400 Maryland Ave. SW, Washington, DC 20202. Telephone: (202) 453-5892. Email: Corey.Johnson@ed.gov.

If you are deaf, hard of hearing, or have a speech disability and wish to access telecommunications relay services, please dial 7-1-1.

SUPPLEMENTARY INFORMATION: FSA Partner Connect is a unified digital front-end platform for entities participating in or involved in the administration of financial aid programs for postsecondary students authorized under title IV of the Higher Education Act of 1965, as amended (HEA), including postsecondary educational institutions (domestic and foreign), institutional third-party servicers, State higher education agencies (including State grant agencies), accrediting agencies, research organizations, third-party software providers, and financial entities (namely guaranty agencies, guaranty agency servicers, Federal loan servicers, Federal Family Education Loan Program (FFELP) lenders, FFELP lender servicers), along with Department staff and contractors. FSA Partner Connect provides these entities and Department staff and contractors with centralized access to certain materials relating to the administration of title IV, HEA financial aid programs, such as websites, policy, guidance, training, and data, for use in managing title IV, HEA program eligibility and completing title IV, HEA aid administration tasks.

Previously, FSA provided certain similar services and applications through multiple websites, such as FSA Training Conference (previously fsaconferences.ed.gov), Application for Approval to Participate in the Federal Student Financial Aid Programs (previously eligcert.ed.gov), and SAIG Enrollment (previously fsawebenroll.ed.gov). FSA Partner Connect integrates these distinct legacy lines of business into a single web-based platform to simplify the user experience while leveraging modernized, more secure technology. This approach not only improves user experience but also FSA's ability and capacity to provide rigorous and proactive oversight, thereby enabling more responsiveness to students and a reduction in compliance challenges through greater collaboration.

FSA Partner Connect provides each user with access to the following features on fsapartners.ed.gov:

(i) The Knowledge Center (available to the public, no account required), which provides informational resources related to the administration of title IV, HEA financial aid programs, such as FSA electronic announcements; FSA Dear Colleague Letters; current and historical versions of the Federal Student Aid Handbook, Foreign Schools Handbook, and New School Guide; and other FSA publications. (This includes content from the retired Information for Financial Aid Professionals (IFAP) website.)

(ii) FSA Training Conference information (available to the public, no account required), which provides training materials, upcoming conference details, and access to previous conference information including presentations.

(iii) The Summary Dashboard, which provides snapshots of certain data related to users' respective organizations including high-level operational data, important communications, notifications, and news tailored to users based on their respective roles.

(iv) A Partner Search and Profile feature, which provides users with the capability to search for and view comprehensive and consolidated postsecondary educational institution and third-party servicer information including program eligibility, official contact information, and postsecondary educational institution relationship information, which is a list of institutions that a postsecondary educational institution has a direct funding or reporting relationship with and of third-party servicers that provide a service to the postsecondary educational institution.

(v) A Student, Parent, and Borrower Search and Profile feature, which allows users to search for and view comprehensive and consolidated account information for students, parents, and/or borrowers including award and disbursement details, StudentAid.gov transactional submissions, Pell and Subsidized Direct Loan eligibility usage, and credit check information. (The platform also provides a view-only version of StudentAid.gov to assist with inquiries from students, parents, and/or borrowers.)

(vi) The Application for Approval to Participate in the Federal Student Financial Aid Programs (more commonly referred to as the “E-App”), which postsecondary educational institutions complete to apply for and maintain participation in title IV, HEA programs.

(vii) The Third-Party Servicer (TPS) Inquiry Form, which obtains information to validate third-party servicer information reported to the Department by postsecondary educational institutions, as well as to collect additional information needed by the Department for effective oversight of postsecondary educational institutions and third-party servicers.

(viii) FSA cases pertaining to eligibility and oversight generated to manage E-App reviews, TPS Inquiry Form reviews, program reviews, audits, and other related oversight processes.

(ix) Various postsecondary educational institution reports and files including, but are not limited to, FSA's Weekly School File, which is a data extract of select demographic and eligibility-related data.

Access to FSA Partner Connect is limited to individuals and entities with active FSA Partner Connect accounts (collectively referred to herein as “authorized users”), which, among other things, contain the contact information of individuals affiliated with entities authorized to create accounts to request electronic access to the Department's Federal Student Aid's (FSA's) systems, including FSA Partner Connect, SAIG, Federal Tax Information SAIG (FTI-SAIG), the Common Origination and Disbursement (COD) system, the Free Application for Federal Student Aid (FAFSA®) Processing System (FPS), the National Student Loan Data System (NSLDS), the Digital Customer Care (DCC) Customer Relationship Management (CRM) system, the eZ-Audit system, the Electronic Cohort Default Rate (eCDR) system, the Financial Management System (FMS), and the Access and Identity Management System (AIMS), and to the U.S. Department of Homeland Security's (DHS') Systematic Alien Verification for Entitlements (SAVE) system for purposes of administering programs authorized under title IV of the HEA. FSA Partner Connect stores and processes information to manage user accounts (e.g., enroll users, manage and modify user roles, which includes, but is not limited to: managing access permissions, removing access, deactivating user accounts, and reactivating user accounts) and authorizes access to the Department systems referenced above. Additionally, FSA Partner Connect manages SAIG mailbox numbers, which are used to electronically transmit data to and receive data from Department systems.

The Department proposes to rescind the systems of records notices titled PEPS (18-11-09) and SAIG, Participation Management System (18-11-10). PEPS enabled the Department to administer the approval, periodic review, and oversight of postsecondary educational institutions that participate in the Federal student financial aid programs under title IV of the HEA. The SAIG, Participation Management System enabled the Department to process stored data from SAIG Enrollment forms, manage the assignment of SAIG mailbox numbers, and authorize users of the Department's systems for the purposes of administering programs authorized under title IV of the HEA. The Department is rescinding the systems of records notices that previously covered the PEPS and the SAIG, Participation Management System because the records previously covered by those systems are now covered by the FSA Partner Connect system of records notice.

Accessible Format: On request to the program contact persons listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other Department documents published in the Federal Register, in text or Portable Document Format (PDF). To use PDF, you must have Adobe Acrobat Reader, which is available free at the site.

You may also access Department documents published in the Federal Register by using the article search feature at www.federalregister.gov. Specifically, through the advanced search feature at this site, you can limit your search to documents published by the Department.

James Bergeron,
Acting Chief Operating Officer, Federal Student Aid.

For the reasons discussed in the preamble, the Acting Chief Operating Officer, Federal Student Aid of the U.S. Department of Education (Department) publishes a new system of records notice titled “Federal Student Aid Partner Connect” (18-11-24) (FSA Partner Connect):

SYSTEM NAME AND NUMBER:

Federal Student Aid Partner Connect (18-11-24).

SECURITY CLASSIFICATION:

Unclassified.

SYSTEM LOCATION:

Digital Services Division of the Office of the Chief Technology Officer, Federal Student Aid, U.S. Department of Education, 400 Maryland Ave. SW, Washington, DC 20202.

Accenture, 22451 Shaw Rd., Sterling, VA 20166-4319. (Accenture is the development and operations vendor for Federal Student Aid (FSA) Partner Connect. This is Accenture's main program office.)

Accenture DC, 820 First St. NE, Washington, DC 20202-4227. (This is Accenture's alternate work site.)

Accenture Federal Services, 10931 Laureate Dr., San Antonio, TX 78249. (This is Accenture's alternate work site.)

Salesforce Government Cloud, 415 Mission St., 3rd Floor, San Francisco, CA 94105. (Salesforce is a component of FSA Partner Connect in which case management functionalities are housed.)

Amazon Web Services (AWS) GovCloud (East/West), 410 Terry Ave., North Seattle, WA 98109-5210. (FSA Partner Connect leverages AWS GovCloud+, a utility-based public cloud service, to process, store, and transmit electronic records.)

NTT Global Data Centers Americas, 44664 Guilford Dr., Ashburn, VA 20147, and 2008 Lookout Dr., Garland, TX 75044. (Customer service call recordings are maintained at these locations.)

Oracle Service Cloud, 500 Eldorado Blvd., Broomfield, CO 80021. (Oracle Service Cloud provides customer case management and reporting capabilities to FSA Partner Connect Customer Service Representatives (CSRs) and has the capability to track and maintain FSA Partner Connect inquiries, which allows CSRs to respond to these cases/inquiries.)

ASM Research, 4050 Legato Rd., #1100, Fairfax, VA 22033. (This is a location of the FSA Partner and School Relations (Customer Service) Center.)

Senture, LLC, 4255 W Highway 90, Monticello, KY 42633-3398. (This is a location of the FSA Partner and School Relations (Customer Service) Center.)

Veteran Call Center, LLC, 53 Knightsbridge Rd., Suite 216, Piscataway, NJ 08854-3925. (This is a location of the FSA Partner and School Relations (Customer Service) Center.)

SYSTEM MANAGER(S):

Director, Digital Services Division of the Office of the Chief Technology Officer, Federal Student Aid, U.S. Department of Education, 400 Maryland Ave. SW, Washington, DC 20202.

AUTHORITY FOR MAINTENANCE OF THE SYSTEM:

Title IV of the Higher Education Act of 1965, as amended (HEA) (20 U.S.C. 1070 et seq.) and Section 117 of the HEA (20 U.S.C. 1011f).

The collection of Social Security numbers (SSNs) of individuals who are covered by this system is authorized by 31 U.S.C. 7701 and Executive Order 9397 (November 22, 1943), as amended by Executive Order 13478 (November 18, 2008).

PURPOSE(S) OF THE SYSTEM:

The purpose of FSA Partner Connect is to more effectively and efficiently provide an integrated interface and system to facilitate the Department's administration of Federal student aid for postsecondary education under title IV of the HEA, including the programs listed in 34 CFR 668.1(c). FSA Partner Connect collects, processes, and retains information as required by title IV of the HEA, and is used by entities, including postsecondary educational institutions (domestic and foreign), institutional third-party servicers, State higher education agencies (including State grant agencies), accrediting agencies, research organizations, third-party software providers, and financial entities (namely guaranty agencies, guaranty agency servicers, Federal loan servicers, Federal Family Education Loan Program (FFELP) lenders, FFELP lender servicers), along with Department staff and Department contractors, participating in or involved in the administration of financial aid programs for postsecondary students authorized under title IV of the HEA.

The information in the FSA Partner Connect system is maintained for the following purposes related to administering and enforcing the title IV, HEA programs:

(1) Collecting and processing data from web-based FSA Partner Connect user access and enrollment forms to enroll users in FSA Partner Connect, and manage and modify roles, which include, but are not limited to, managing access permissions, removing access, deactivating user accounts, and reactivating user accounts;

(2) Authorizing system access to the Department's FSA systems, including FSA Partner Connect, the Student Aid internet Gateway (SAIG), the Federal Tax Information SAIG (FTI-SAIG), the Common Origination and Disbursement (COD) system, the Free Application for Federal Student Aid (FAFSA®) Processing System (FPS), the National Student Loan Data System (NSLDS), the Digital Customer Care (DCC) Customer Relationship Management (CRM) system, the eZ-Audit system, the Electronic Cohort Default Rate (eCDR) system, the Financial Management System (FMS), and the Access and Identity Management System (AIMS), and to the U.S. Department of Homeland Security's (DHS') Systematic Alien Verification for Entitlements (SAVE) system for the purposes of administering or assisting in administering programs authorized under title IV of the HEA. (Authorizing system access to the FSA systems includes the enrollment of users and the validation of user and organizational associations to determine appropriate system privileges, which are both responsibilities of a designated Administrator at the organization/entity (Primary, Secondary, and Eligibility and Oversight Administrator));

(3) Managing the assignment of SAIG mailbox numbers, known as “TG numbers” and “Federal Tax (FT) numbers,” to electronically transmit data to and receive data from Department systems;

(4) Delivering FSA policy and guidance, such as the Federal Student Aid Handbook, Foreign Schools Handbook, and New School Guide, to entities and the public via the Knowledge Center on FSA Partner Connect;

(5) Posting Federal student aid training, presentations, and other outreach/engagement tools and resources to entities and the public via the FSA Training Conference section of FSA Partner Connect;

(6) Providing postsecondary educational institutions with access to complete the Application for Approval to Participate in the Federal Student Financial Aid Programs (more commonly referred to as the “E-App”), which facilitates initial approval to participate, changes to ownership or structure, recertification, reinstatements, and other postsecondary educational institutional updates (including changes such as, but not limited to, a new location or program, an increased level of offering, a change of officials, reporting a third-party servicer, or a Federal School Code Address change);

(7) Managing the determination, processing, approval, tracking, and reporting of program eligibility requirements under title IV of the HEA for postsecondary educational institutions. (Note: Postsecondary educational institutions must meet the postsecondary educational institutional eligibility, financial responsibility, and administrative capability requirements for students to receive title IV, HEA aid at their postsecondary educational institutions);

(8) Providing postsecondary educational institutional update reports to identify postsecondary educational institutional changes and maintain current eligibility information regarding participation in the title IV, HEA programs. (Note: These reports are used by Department and external systems to identify postsecondary educational institutions, determine title IV, HEA program participation eligibility, and accurately disburse and reconcile title IV, HEA aid);

(9) Providing third-party servicers with access to complete the Third-Party Servicer Inquiry Form, for use by entities that perform title IV, HEA functions or services on behalf of eligible postsecondary educational institutions. (Note: postsecondary educational institutions may have a third-party servicer (an individual, a State, or a private for-profit or non-profit organization that enters into a contract with an eligible institution) administer, through manual or automated processing, any aspect of the postsecondary educational institution's participation in any title IV, HEA programs);

(10) Managing the processing, approval, tracking, and reporting of title IV, HEA program eligibility for third-party servicers, Federal Loan Servicers, lenders, lender servicers, State higher education agencies (including State grant agencies), and guaranty agencies;

(11) Providing a summary view of postsecondary educational institutional and third-party servicer data sourced from multiple FSA IT systems, including FSA Partner Connect, the COD system, and the Enterprise Data Warehouse and Analytics (EDWA) system;

(12) Acting as a repository and source for information necessary to fulfill the requirements of title IV of the HEA; and

(13) Maintaining disclosure reports required to be filed by postsecondary educational institutions with the Department under Section 117 of the HEA, and making such disclosure reports available for public inspection.

The information in this system is also maintained for the following Department purposes relating to postsecondary educational institutions that participate in and administer title IV, HEA programs:

(1) Confirming that a postsecondary educational institution, or a program offered by a postsecondary educational institution, is eligible to participate in and receive title IV, HEA program funds;

(2) Supporting the Department in identifying, detecting, preventing, mitigating, and recouping improper payments of title IV, HEA programs;

(3) Maintaining data and documentation that evidence the existence of a legal obligation to comply with the laws, regulations, and policies governing title IV, HEA programs;

(4) Providing reporting capabilities for postsecondary educational institutions, guaranty agencies, lenders, and Department contractors for use in title IV, HEA administrative functions, and use by the Department or Federal, State, Tribal, or local agencies for oversight and compliance;

(5) Supporting research, analysis, and development, and the implementation and evaluation of educational policies in relation to title IV, HEA programs;

(6) Conducting testing and analysis, or taking other administrative actions needed, to prepare for or administer title IV, HEA programs;

(7) Enforcing postsecondary educational institutional compliance with Department reporting deadlines relating to, and ensuring compliance with and enforcement of, title IV, HEA programmatic requirements by:

(a) Enforcing the terms and conditions of title IV, HEA Federal student aid programs;

(b) Collecting a delinquent title IV, HEA loan, grant overpayment, or fine; and

(c) Detecting, investigating, and preventing possible fraud and abuse and initiating enforcement action against a person or organization involved in program fraud, abuse, or noncompliance;

(8) Assisting a postsecondary educational institution, a third-party software provider, or a third-party servicer with questions about title IV, HEA program funds; and

(9) Assisting the Department with program management and analysis, program outreach, and customer service.

CATEGORIES OF INDIVIDUALS COVERED BY THE SYSTEM:

FSA Partner Connect contains records on individuals associated with postsecondary educational institutions, institutional third-party servicers, State higher education agencies (including State grant agencies), accrediting agencies, research organizations, third-party software providers, and financial entities (namely guaranty agencies, guaranty agency servicers, Federal loan servicers, FFELP lenders, FFELP lender servicers), along with Department staff and contractors, who administer or assist in the administration of programs authorized under title IV, HEA programs.

Specific categories of individuals covered by the system include:

(1) Individuals who are authorized to access FSA systems and the DHS SAVE system for purposes of administering or assisting in administering programs authorized under title IV of the HEA;

(2) Individuals who have an “ownership interest”, which is a share of the legal or beneficial ownership or control of, or a right to share in the proceeds of the operation of, a postsecondary educational institution, an institution's parent corporation, a third-party servicer, or a third-party servicer's parent corporation. (Note: The term “ownership interest” includes, but is not limited to, an interest as tenant in common, joint tenant, or tenant by the entireties; a partnership; or an interest in a trust. The term “ownership interest” does not include any share of the ownership or control of, or any right to share in the proceeds of, the operation of a mutual fund that is regularly and publicly traded; an institutional investor; or a profit-sharing plan, provided that all employees are covered by the plan);

(3) Persons or entities who exercise “substantial control” over a postsecondary educational institution or third-party servicer. The Secretary of Education generally considers a person or entity to exercise substantial control over an institution or third-party servicer if the person or entity directly or indirectly holds at least a 25 percent ownership interest in the postsecondary educational institution or servicer; holds, together with other members of their family, at least a 25 percent ownership interest in the postsecondary educational institution or servicer; represents, either alone or together with other persons under a voting trust, power of attorney, proxy, or similar agreement, one or more persons who hold, either individually or in combination with the other persons represented or the person representing them, at least a 25 percent ownership in the institution or servicer; or is a member of the board of directors, a general partner, the chief executive officer, or other executive officer of the institution or servicer or an entity that holds at least a 25 percent ownership interest in the institution or servicer);

(4) Employees, officials, authorized representatives/agents (e.g., president, chancellor, chief executive officer, chief information officer, chief financial officer, and financial aid administrator) of postsecondary educational institutions; and members of boards of directors or trustees of those postsecondary educational institutions;

(5) Employees, officials, authorized representatives/agents of third-party servicers, guaranty agencies, Federal loan servicers, lenders, lender servicers, and State higher education agencies (including State grant agencies); and

(6) Employees and authorized contractors of the Department.

This system also maintains records on individuals who are a foreign source, as defined in Section 117(h)(2) of the HEA (20 U.S.C. 1011f(h)(2)), with whom a postsecondary educational institution enters into a contract or from whom a postsecondary educational institution receives a gift, if the postsecondary educational institution is required to file with the Department a disclosure report for such contract or gift under Section 117(a) of the HEA (20 U.S.C. 1011f(a)). This system also maintains records on individuals who are a foreign source, as defined in Section 117(h)(2) of the HEA, that owns or controls a postsecondary educational institution, which relationship is required to be reported to the Department under Section 117(a) of the HEA.

This system also displays records of aid applicants and recipients who apply for and/or receive title IV aid, aid applicants' parents, and spouses of aid applicants. (Note: Specific information about these individuals is retrieved from other FSA systems through application programming interfaces (APIs) and provided in a consolidated view to FSA Partner Connect users with appropriate permissions.) This information is not stored in FSA Partner Connect.

CATEGORIES OF RECORDS IN THE SYSTEM:

FSA Partner Connect maintains records on the eligibility, administrative capability, and financial responsibility of postsecondary institutions. Postsecondary educational institutions must report information to the Department so the Department can ensure that the postsecondary educational institutions are meeting their academic, financial, and administrative standards for participating in FSA programs. The system maintains records that contain the following information:

(1) Postsecondary educational institution contact information (e.g., name, address, locations, institution's website address, phone number(s), fax number(s), email address(es));

(2) Postsecondary educational institution official and board member information, including name, phone number, business address (and home address for officials), email address, taxpayer identification number (TIN), digital signature, as well as identification numbers assigned by the Department;

(3) Postsecondary educational institution's accrediting agency information and State authorizing agency; or, for foreign postsecondary educational institutions, the authorizing entity (e.g., name, address, phone number(s), fax number(s), email address(es));

(4) Postsecondary educational institution's institutional structure information (i.e., public, private nonprofit, or proprietary) including, where applicable, owners, type of ownership, and details on ownership interest;

(5) Information of third-party servicers contracted by postsecondary educational institutions, including:

(a) Third-party servicers' contact information (e.g., name, address, location, organization's website address, phone number(s), fax number(s), email address(es));

(b) Third-party servicer official information including name, phone number, business address, email address, TIN, digital signature, as well as identification numbers assigned by the Department;

(c) Ownership structure information (for-profit or not-for-profit) and details on ownership interest; and

(d) HEA services that the third-party servicer performs on behalf of its clients;

(6) Information about individuals who are affiliated with an authorized entity and who request access to the Department's FSA systems or access to the DHS SAVE system, including an individual's first and last name, phone number, email address, SSN, date of birth, and digital signature, which is needed to create an account to access the FSA systems and DHS SAVE system for the purposes of administering programs authorized under title IV of the HEA; and

(7) Information in disclosure reports required to be filed by postsecondary educational institutions with the Department under Section 117 of the HEA, including, but not limited to, the legal and DBA/trade name of the foreign source with whom the postsecondary educational institution entered into a contract or from whom the postsecondary educational institution received a gift if such contract or gift is required to be reported under Section 117(a) of the HEA, or the name of the foreign source that owns or controls the postsecondary educational institution; the amount of the contract or gift; the date the gift was received or the start and end dates of the contract; the country of attribution for the contract or gift (e.g., the country of citizenship or principal residence of the foreign source); the foreign source's address; and, if the contract or gift is a restricted or conditional contract or gift, as defined in Section 117(h)(5) of the HEA (20 U.S.C. 1011f(h)(5)), the types of restrictions or conditions in such contract or gift and a detailed description of such restrictions or conditions.

RECORD SOURCE CATEGORIES:

Information in this system is obtained from:

(1) Authorized employees or representatives of entities, including postsecondary educational institutions, institutional third-party servicers, State higher education agencies (including State grant agencies), accrediting agencies, research organizations, third-party software providers, guaranty agencies, guaranty agency servicers, Federal loan servicers, FFELP lenders, FFELP lender servicers, as well as Department staff and contractors through enrollment for FSA system access;

(2) Applications submitted by postsecondary institutions (E-App) and third-party servicers (Third-Party Servicer Inquiry Form) that seek to participate in student financial assistance programs;

(3) Other Federal or State higher education agencies (including State grant agencies), and non-governmental agencies and organizations, such as foreign medical boards and research organizations, that acquire information relevant to the purposes of the FSA Partner Connect system through the E-App;

(4) Other Department systems or their successor systems. These systems include: the COD system (covered by the system of records notice titled “Common Origination and Disbursement (COD) System” (18-11-02)), NSLDS (covered by the system of records notice titled “National Student Loan Data System (NSLDS)” (18-11-06)), the Enterprise Data Management and Analytics Platform Services (EDMAPS) system (covered by the system of records notice titled “Enterprise Data Management and Analytics Platform Services (EDMAPS)” (18-11-22)), the Aid Awareness and Application Process (AAAP) system (covered by the system of records notice titled “Aid Awareness and Application Processing” (18-11-21)), and FMS (covered by the system of records notice titled “Financial Management System (FMS)” (18-11-17));

(5) DocuSign (EDDocuSign), which is a secure digital software used by the Department to obtain and document digital signatures;

(6) Postsecondary educational institutions that are required to file disclosure reports with the Department under Section 117 of the HEA; and

(7) Other persons or entities from whom or from which information is obtained following a disclosure under the routine uses set forth below.

ROUTINE USES OF RECORDS MAINTAINED IN THE SYSTEM, INCLUDING CATEGORIES OF USERS AND PURPOSES OF SUCH USES:

The Department may disclose information maintained in a record in this system of records under the routine uses listed in this system of records notice without the consent of the individual if the disclosure is compatible with the purposes for which the record was collected. These disclosures may be made on a case-by-case basis or pursuant to a computer matching agreement that meets the requirements of the Privacy Act of 1974, as amended (Privacy Act) (5 U.S.C. 552a).

(1) Program Disclosure. The Department may disclose records from the system of records for the following program purposes:

(a) To postsecondary educational institutions, institutional third-party servicers, State higher education agencies (including State grant agencies), accrediting agencies, research organizations, financial entities (namely guaranty agencies, guaranty agency servicers, Federal loan servicers, FFELP lenders, and FFELP lender servicers), and other Federal, State, or local agencies, for the purposes of administering or assisting in administering programs authorized under title IV of the HEA;

(b) To guaranty agencies, educational and financial institutions, accrediting agencies, and Federal, State, or local agencies, in order to verify and assist with the determination of eligibility, administrative capability, and financial responsibility of postsecondary educational institutions that have applied to participate in the student financial assistance programs authorized under title IV of the HEA; and

(c) To support the investigation of possible fraud and abuse in title IV, HEA program funds, and to detect and prevent fraud and abuse in title IV, HEA program funds, disclosures may be made to postsecondary educational institutions, third-party servicers, and Federal, State, local, or Tribal agencies.

(2) Enforcement Disclosure. In the event that information in this system of records indicates, either on its face or in connection with other information, a violation or potential violation of any applicable statute, regulation, or order of a competent authority, the Department may disclose the relevant records to the appropriate agency, whether Federal, State, Tribal, foreign, or local, charged with investigating or prosecuting such violation or charged with enforcing or implementing the statute, Executive Order, or rule, regulation, or order issued pursuant thereto.

(3) Litigation and Alternative Dispute Resolution (ADR) Disclosure.

(a) Introduction. In the event that one of the parties listed in sub-paragraphs (i) through (v) of this routine use is involved in judicial or administrative litigation or ADR, or has an interest in such litigation or ADR, the Department may disclose certain records to the parties described in paragraphs (b), (c), and (d) of this routine use under the conditions specified in those paragraphs:

(i) The Department or any of its components;

(ii) Any Department employee in their official capacity;

(iii) Any Department employee in their individual capacity where the U.S. Department of Justice (DOJ) agrees to or has been requested to provide or arrange for representation of the employee;

(iv) Any Department employee in their individual capacity where the Department has agreed to represent the employee; and

(v) The United States, where the Department determines that the litigation is likely to affect the Department or any of its components.

(b) Disclosure to the DOJ. If the Department determines that disclosure of certain records to the DOJ is relevant and necessary to judicial or administrative litigation or ADR, the Department may disclose those records as a routine use to the DOJ.

(c) Adjudicative Disclosure. If the Department determines that it is relevant and necessary to judicial or administrative litigation or ADR to disclose certain records to an adjudicative body before which the Department is authorized to appear or to a person or entity designated by the Department or otherwise empowered to resolve or mediate disputes, the Department may disclose those records as a routine use to the adjudicative body, person, or entity.

(d) Disclosure to Parties, Counsel, Representatives, or Witnesses. If the Department determines that disclosure of certain records is relevant and necessary to judicial or administrative litigation or ADR, the Department may disclose those records as a routine use to the party, counsel, representative, or witness.

(4) Employment, Benefit, and Contracting Disclosure.

(a) For Decisions by the Department. The Department may disclose a record to a Federal, State, or local agency, or to another public agency or professional organization, maintaining civil, criminal, or other relevant enforcement or other pertinent records, if necessary to obtain information relevant to a Department decision concerning the hiring or retention of an employee or other personnel action, the issuance of a security clearance, the letting of a contract, or the issuance of a license, grant, or other benefit.

(b) For Decisions by Other Public Agencies and Professional Organizations. The Department may disclose a record to a Federal, State, local, or other public agency or professional organization, or the Department's contractor in connection with the hiring or retention of an employee or other personnel action, the issuance of a security clearance, the reporting of an investigation of an employee, the letting of a contract, or the issuance of a license, grant, or other benefit, to the extent that the record is relevant and necessary to the receiving entity's decision on the matter.

(5) Employee Grievance, Complaint, or Conduct Disclosure. If a record from this system of records is relevant and necessary to an employee grievance, complaint, or disciplinary action involving a present or former employee of the Department, the Department may disclose the record in the course of investigation, fact-finding, mediation, or adjudication to any party to the grievance, complaint, or action; to the party's counsel or representative; to a witness; or to a designated fact-finder, mediator, or other person designated to resolve issues or decide the matter.

(6) Labor Organization Disclosure. The Department may disclose records from this system of records to an arbitrator to resolve disputes under a negotiated grievance procedure or to officials of labor organizations recognized under 5 U.S.C. chapter 71 when relevant and necessary to their duties of exclusive representation.

(7) Freedom of Information Act (FOIA) and Privacy Act Advice Disclosure. The Department may disclose records to the DOJ or to the Office of Management and Budget (OMB) if the Department determines that disclosure is desirable or necessary in determining whether records are required to be disclosed under the FOIA or the Privacy Act.

(8) Disclosure to the DOJ. The Department may disclose records to the DOJ to the extent necessary for obtaining the DOJ's advice on any matter relevant to an audit, inspection, or other inquiry related to the programs covered by this system.

(9) Contract Disclosure. If the Department contracts with an entity to perform any function that requires disclosing records in this system of records to the contractor's employees, the Department may disclose the records to those employees. As part of such a contract, the Department shall require the contractor to agree to establish and maintain safeguards to protect the security and confidentiality of the disclosed records.

(10) Research Disclosure. The Department may disclose records to a researcher if the Department determines that the individual or organization to which the disclosure would be made is qualified to carry out specific research related to functions or purposes of this system of records. The Department may disclose records from this system of records to that researcher solely for the purpose of carrying out that research related to the functions or purposes of this system of records. The researcher shall be required to agree to establish and maintain safeguards to protect the security and confidentiality of the disclosed records.

(11) Congressional Member Disclosure. The Department may disclose records to a member of Congress or the member's staff when necessary to respond to an inquiry from the member made at the written request of and on behalf of the individual whose records are being disclosed. The member's right to the information is no greater than the right of the individual who requested it.

(12) Disclosure to the OMB for Federal Credit Reform Act (FCRA) Support. The Department may disclose records to OMB as necessary to fulfill FCRA requirements in accordance with 2 U.S.C. 661b.

(13) Disclosure in the Course of Responding to a Breach of Data. The Department may disclose records to appropriate agencies, entities, and persons when (a) the Department suspects or has confirmed that there has been a breach of the system of records; (b) the Department has determined that as a result of the suspected or confirmed breach there is a risk of harm to individuals, the Department (including its information systems, programs, and operations), the Federal Government, or national security; and (c) the disclosure made to such agencies, entities, and persons is reasonably necessary to assist in connection with the Department's efforts to respond to the suspected or confirmed breach or to prevent, minimize, or remedy such harm.

(14) Disclosure in Assisting Another Agency in Responding to a Breach of Data. The Department may disclose records from this system of records to another Federal agency or Federal entity when the Department determines that information from this system of records is reasonably necessary to assist the recipient agency or entity in (a) responding to a suspected or confirmed breach, or (b) preventing, minimizing, or remedying the risk of harm to individuals, the recipient agency or entity (including its information systems, programs, and operations), the Federal Government, or national security, resulting from a suspected or confirmed breach.

(15) Feasibility Study Disclosure. The Department may disclose records from this system of records to other Federal agencies, and to guaranty agencies and their authorized representatives, to determine whether matching programs should be conducted by the Department for purposes such as to verify compliance with program regulations.

(16) Disclosure of Information to Federal or State Agencies Relating to Improper Payments. The Department may disclose records to (a) a Federal or State agency, its employees, agents (including contractors of its agents), or contractors, or (b) a fiscal or financial agent designated by the U.S. Department of the Treasury (including employees, agents, or contractors of such agent), for the purpose of identifying, preventing, or recouping improper payments to an applicant for, or recipient of, Federal funds, including funds disbursed by a State in a State-administered, Federally-funded program.

(17) Disclosure to the National Archives and Records Administration (NARA). The Department may disclose records from this system of records to NARA for the purpose of records management inspections conducted under the authority of 44 U.S.C. 2904 and 2906.

POLICIES AND PRACTICES FOR STORAGE OF RECORDS:

The records are maintained electronically.

POLICIES AND PRACTICES FOR RETRIEVAL OF RECORDS:

Users of the system have a unique user identification (ID) with a password. Records are retrieved by the names of the individual user and/or their unique system user ID. In addition, records are indexed by the name of the postsecondary educational institution or organization and may be retrieved by an identifying number, such as, but not limited to, the Office of Postsecondary Education Identification Number (OPE ID), the Entity Identification Number (EIN), the Partner ID, or the Unique Entity Identifier (UEI) of the organization; or the name, SSN, or the TIN of an individual associated with the postsecondary educational institution or organization.

POLICIES AND PRACTICES FOR RETENTION AND DISPOSAL OF RECORDS:

Records maintained in this system are primarily retained and disposed of in accordance with Department Records Schedule 066, Program Management Files (N1-441-08-17) (ED 066); Department Records Schedule 074, FSA Guaranty Agency, Financial and Education Institution Eligibility, Compliance, Monitoring and Oversight Records (N1-441-09-15) (ED 074); and General Records Schedule 3.2, Information System Security Records, item 030 (DAA-GRS-2013-0006-0003). (Note: The Department has submitted amendments to ED 066 and ED 074 to NARA for its review and approval and will not destroy records covered by these records schedules until NARA-approved amendments thereto are in effect, as applicable.)

ADMINISTRATIVE, TECHNICAL, AND PHYSICAL SAFEGUARDS:

Access to the system is limited to authorized FSA Partner Connect program personnel and contractors responsible for administering the FSA Partner Connect program. Authorized personnel include Department employees and contractors, financial and fiscal management personnel, computer personnel, and program managers who have responsibilities for implementing the FSA Partner Connect program. Read-only access is given to servicers, holders, financial/fiscal management personnel, and postsecondary educational institutional personnel.

A password is required to access the system, and a data set name controls the release of data to only authorized users. In addition, all sensitive data is encrypted and access to records is strictly limited to those staff members trained in accordance with the Privacy Act and Automatic Data Processing (ADP) security procedures. Contractors are required to maintain confidentiality safeguards with respect to these records. Contractors are instructed to make no further disclosure of the records except as authorized by the System Manager and permitted by the Privacy Act. All individuals who have access to these records receive appropriate ADP security clearances.

In accordance with the Federal Information Security Management Act of 2002 (FISMA), as amended by the Federal Information Security Modernization Act of 2014, every Department system must receive a signed Authorization to Operate (ATO) from a designated Department official. The ATO process includes a rigorous assessment of security controls, a plan of action and milestones to remediate any identified deficiencies, and a continuous monitoring program.

FISMA controls implemented are comprised of a combination of management, operational, and technical controls, and include the following control families: access control, awareness and training, audit and accountability, security assessment and authorization, configuration management, contingency planning, identification and authentication, incident response, maintenance, media protection, physical and environmental protection, planning, personnel security, privacy, risk assessment, system and services acquisition, system and communications protection, system and information integrity, and program management.

RECORD ACCESS PROCEDURES:

If you wish to gain access to a record in this system, you must contact the system manager at the address listed above. You must provide necessary particulars such as your name, user ID, TIN or SSN, and any other identifying information requested by the Department while processing the request to distinguish between individuals with the same name. Your request must meet the requirements of the Department's Privacy Act regulations at 34 CFR 5b.5, including proof of identity.

Alternatively, to gain access to a record in the system, you can make a Privacy Act request through the Department's online FOIA portal at https://foiaxpress.pal.ed.gov/ by completing the applicable request forms.

CONTESTING RECORD PROCEDURES:

If you wish to contest or change the content of a record about you in the system of records, you must contact the system manager with the information described in the record access procedures. In addition, identify the specific items to be changed and provide a written justification for the change. Requests to amend a record must meet the requirements of the Department's Privacy Act regulations at 34 CFR 5b.7.

NOTIFICATION PROCEDURES:

If you wish to determine whether a record exists about you in the system of records, you must contact the system manager at the address listed above. You must provide necessary particulars such as your name, user ID, TIN or SSN, and any other identifying information requested by the Department while processing the request to distinguish between individuals with the same name. Your request must meet the requirements of the Department's Privacy Act regulations at 34 CFR 5b.5, including proof of identity.

Alternatively, you may make a Privacy Act request through the Department's online FOIA portal at https://foiaxpress.pal.ed.gov/ by completing the applicable request forms.

EXEMPTIONS PROMULGATED FOR THE SYSTEM:

None.

HISTORY:

None.

For the reasons discussed in the preamble, the Acting Chief Operating Officer of FSA at the Department publishes a rescindment of the system of records notice titled “Postsecondary Education Participants System (PEPS)” (18-11-09):

SYSTEM NAME AND NUMBER:

“Postsecondary Education Participants System (PEPS)” (18-11-09).

HISTORY:

The “Postsecondary Education Participants System (PEPS)” (18-11-09) system of records notice was published in the Federal Register on June 4, 1999 (64 FR 30106, 30171-30173); amended on December 27, 1999 (64 FR 72384, 72405); and rescinded on August 8, 2017 (82 FR 37089-37094). This system of records was republished in the Federal Register in full on September 11, 2018 (83 FR 45912) and is being rescinded by this notice.

For the reasons discussed in the preamble, the Acting Chief Operating Officer of FSA at the Department publishes a rescindment of the system of records notice titled “Student Aid internet Gateway (SAIG), Participation Management System” (18-11-10):

SYSTEM NAME AND NUMBER:

“Student Aid internet Gateway (SAIG), Participation Management System” (18-11-10).

HISTORY:

The “Student Aid internet Gateway (SAIG), Participation Management System” (18-11-10) system of records notice was published in the Federal Register on December 27, 1999 (64 FR 72384, 72397) and titled “Title IV Wide Area Network” (Title IV WAN). This system of records was modified and published in the Federal Register on January 28, 2005 (70 FR 4112), changing the title to “Student Aid internet Gateway (SAIG), Participation Management System.” This system of records notice was modified on April 19, 2010 (75 FR 20346) and March 1, 2018 (83 FR 8855) and is being rescinded by this notice.

[FR Doc. 2025-13212 Filed 7-14-25; 8:45 am]

BILLING CODE 4000-01-P